DEPARTMENT OF THE INTERIOR

Fish and Wildlife Service

Notice of Intent To Prepare a Comprehensive Conservation Plan and Associated Environmental Impact Statement for Lake Umbagog National Wildlife Refuge

AGENCY: Fish and Wildlife Service, Department of the Interior.

ACTION: Notice of Intent.

SUMMARY: This notice advises the public that the U.S. Fish and Wildlife Service (Service) intends to prepare a Comprehensive Conservation Plan (CCP) and associated Environmental Impact Statement (EIS) for Lake Umbagog National Wildlife Refuge (NWR) pursuant to the National Environmental Policy Act and its implementing regulations. Lake Umbagog NWR is located in Coos County, New Hampshire and Oxford County, Maine. The planning process will also include a Wilderness Review of existing refuge lands, in accordance with the Wilderness Act of 1964, as amended, and Refuge Planning Policy 602 FW Chapters 1, 2, and 3. The Service is furnishing this notice in compliance with the National Wildlife Refuge System Administration Act of 1966, as amended (16 U.S.C. 668dd et seq.):

(1) To advise other agencies and the public of our intentions, and

(2) to obtain suggestions and information on the scope of issues to include in the environmental documents.

DATES: The Service will hold a series of public scoping meetings early in the planning process to help identify issues of concern and gather comments from the public:

• Tuesday, July 30, 6:30 p.m., Errol Town Hall, Errol, New Hampshire;

• Thursday, Aug. 1, 6:30 p.m., New Hampshire Community Technical College, Berlin, New Hampshire;

• Friday, Aug. 2, 6:30 p.m., Bethel Inn, Bethel, Maine.

Remaining to be scheduled this summer are meetings in Augusta, Maine and Concord, New Hampshire.

Inquire at the address below for dates and locations of future planning activities, or to be added to our mailing list. Further notice announcing times and locations of public meetings, public hearings, and release of a draft CCP and EIS will be published in local news media.

ADDRESSES: Address comments, questions and requests for more information to the following: Refuge Manager, Lake Umbagog National Wildlife Refuge, P.O. Box 240, Errol, New Hampshire 03579, (603) 482-3415, e-mail: fw5rw_lunwr@fws.gov.

SUPPLEMENTARY INFORMATION: By Federal law, all lands within the National Wildlife Refuge System are to be managed in accordance with an approved CCP. The CCP guides management decisions and identifies refuge goals, long-range objectives, and strategies for achieving refuge purposes. It will provide other agencies and the public with a clear understanding of the desired conditions for the refuge and how the Service will implement management strategies. The planning process will evaluate many elements, including habitat and wildlife management, additional land protection and refuge expansion, public use, and cultural resource protection. Public input into this planning process is essential.

The Service will solicit public input via public meetings, workshops, and written comments. Special mailings, newspaper articles, webpages, and announcements will inform people of the time and place of such opportunities for public input to the CCP. Lake Umbagog NWR includes 16,300 acres of fresh water marsh and forest surrounding the 8,500-acre Umbagog Lake on the New Hampshire and Maine border. A draft CCP and EIS is planned for public review in the fall of 2003. You can view the project's Web page at http://northeast.fws.gov/planning/umbagog.htm.

Review of these projects will be conducted in accordance with the requirements of the National Environmental Policy Act (NEPA) of 1969, as amended (42 U.S.C. 4321 et seq.), NEPA Regulations (40 CFR parts 1500-1508), other appropriate Federal laws and regulations, and Service policies and procedures for compliance with those regulations.

Dated: June 21, 2002.
Richard O. Bennett,
Deputy Regional Director, U.S. Fish and Wildlife Service, Hadley, Massachusetts.

[FR Doc. 02-17758 Filed 7-15-02; 8:45 am]

BILLING CODE 4310-55-P